SURFACE TRANSPORTATION BOARD

30-Day Notice of Intent To Seek Extension of Approval: Recordations (Rail and Water Carrier Liens), Water Carrier Tariffs, and Agricultural Contract Summaries

AGENCY: Surface Transportation Board.

ACTION: Notice and Request for Comments.

SUMMARY: As part of its continuing effort to reduce paperwork burdens, and as required by the Paperwork Reduction Act of 1995, (PRA), the Surface Transportation Board (STB or Board) gives notice that it is requesting from the Office of Management and Budget (OMB) approval of an extension for the information collections required under rail or water carrier equipment liens (recordations), under water carrier tariffs, and under rail agricultural contract summaries. The information collections are described in more detail below. The Board previously published a notice about this collection in the Federal Register. 81 FR 26,302 (May 2, 2016). That notice allowed for a 60-day public review and comment period. No comments were received.

DATES: Comments on this information collection should be submitted by September 6, 2016.

ADDRESSES: Written comments should be identified as “Paperwork Reduction Act Comments, Surface Transportation Board: Recordations, Water Carrier Tariffs, and Agricultural Contract Summaries.” These comments should be directed to the Office of Management and Budget, Office of Information and Regulatory Affairs, Attention: Chandana L. Achanta, Surface Transportation Board Desk Officer, by email at OIRA_SUBMISSION@OMB.EOP.GOV; by fax at (202) 395-6974; or by mail to Room 10235, 725 17th Street NW., Washington, DC 20503. Please also direct comments to Chris Oehrle, Surface Transportation Board, 395 E Street SW., Washington, DC 20423-0001, or to PRA@stb.dot.gov.

FOR FURTHER INFORMATION CONTACT: For further information regarding this collection, contact Michael Higgins, Deputy Director, Office of Public Assistance, Governmental Affairs, and Compliance at (202) 245-0284 or at higginsm@stb.dot.gov. [Assistance for the hearing impaired is available through the Federal Information Relay Service (FIRS) at 1-800-877-8339.]

SUPPLEMENTARY INFORMATION: Comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collections

Collection Number 1

Title: Agricultural Contract Summaries.

OMB Control Number: 2140-0024.

STB Form Number: None.

Type of Review: Extension with change.

Number of Respondents: Approximately 10 (seven Class I railroads and a limited number of other railroads).

Frequency: On occasion. (Over the last three years, respondents have filed an average of 161 agricultural contract summaries per year. The same number of filings is expected during each of the next 3 years).

Total Burden Hours (annually including all respondents): 40.25 hours (161 submissions × .25 hours estimated per submission).

Total Annual “Non-hour Burden” Cost (such as start-up and mailing costs): There are no non-hourly burden costs for this collection. The collection is filed electronically.

Needs and Uses: Under 49 U.S.C. 10709(d), railroads are required to file a summary of the nonconfidential terms of any contract for the transportation of agricultural products.

Collection Number 2

Title: Recordations (Rail and Water Carrier Liens).

OMB Control Number: 2140-0025.

STB Form Number: None.

Type of Review: Extension with change.

Respondents: Parties holding liens on rail equipment or water carrier vessels, and carriers filing proof that a lien has been removed.

Number of Respondents: Approximately 50 respondents.

Frequency: On occasion. (Over the last three years, respondents have filed an average of 1,831 responses per year. The same number of filings is expected during each of the next 3 years).

Total Burden Hours (annually including all respondents): 457.75 hours (1,831 submissions × .25 hours estimated per response).

Total “Non-hour Burden” Cost (such as start-up and mailing costs): There are no non-hourly burden costs for this collection. The collection may be filed electronically.

Needs and Uses: Under 49 U.S.C. 11301 and 49 CFR 1177, liens on rail equipment must be filed with the STB in order to perfect a security interest in the equipment. Subsequent amendments, assignments of rights, or release of obligations under such instruments must also be filed with the agency. This information is maintained by the Board for public inspection. Recordation at the STB obviates the need for recording the liens in individual States.

Collection Number 3

Title: Water Carrier Tariffs.

OMB Control Number: 2140-0026.

STB Form Number: None.

Type of Review: Extension with change.

Respondents: Water carriers that provide freight transportation in noncontiguous domestic trade.

Number of Respondents: Approximately 29.

Frequency: On occasion. (Over the last three years, respondents have filed an average of 885 responses per year.¹ The same number of filings is expected during each of the next 3 years).

¹ In its 60-day notice, the Board inadvertently used an estimate of an average of 228 water carrier tariffs filed with the Board each year. The average number of tariffs filed is corrected here, as are the burden hours.

Total Burden Hours (annually including all respondents): 663.75 hours (885 filings × .75 hour estimated time per filing).

Total “Non-hour Burden” Cost (such as start-up costs and mailing costs): There are no non-hourly burden costs for this collection. The collection may be filed electronically.

Needs and Uses: Under 49 U.S.C. 13702(b) and 49 CFR 1312, water carriers that provide freight transportation in noncontiguous domestic trade (i.e., domestic, as opposed to international) shipments moving to or from Alaska, Hawaii, or the U.S. territories or possessions (Puerto Rico, Guam, the U.S. Virgin Islands, American Samoa, and the Northern Mariana Islands)) must file tariffs, providing a list of prices and fees that the water carrier charges to the shipping public.

Under the PRA, a Federal agency conducting or sponsoring a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: August 2, 2016.
Brendetta S. Jones,
Clearance Clerk.

[FR Doc. 2016-18637 Filed 8-4-16; 8:45 am]

BILLING CODE 4915-01-P